DEPARTMENT OF COMMERCE

International Trade Administration

[A-520-807]

Circular Welded Carbon-Quality Steel Pipe From the United Arab Emirates: Final Results of Antidumping Duty Administrative Review; 2020-2021

AGENCY: Enforcement and Compliance, International Trade Administration, Department of Commerce.

SUMMARY: The U.S. Department of Commerce (Commerce) determines that the producers/exporters subject to this administrative review made sales of subject merchandise at prices less than normal value during the period of review (POR), December 1, 2020, through November 30, 2021.

DATES: Applicable May 4, 2023.

FOR FURTHER INFORMATION CONTACT: Benjamin A. Luberda or Alice Maldonado, AD/CVD Operations, Office II, Enforcement and Compliance, International Trade Administration, U.S. Department of Commerce, 1401 Constitution Avenue NW, Washington, DC 20230; telephone: (202) 482-2185 or (202) 482-4682, respectively.

SUPPLEMENTARY INFORMATION:

Background

This review covers five producers/exporters of the subject merchandise. Commerce selected two mandatory respondents for individual examination: Ajmal Steel Tubes & Pipes Ind. L.L.C./Ajmal Steel Tubes & Pipes Ind. L.L.C.-Branch-1 (collectively, Ajmal) ¹ and Universal Tube and Plastic Industries, Ltd./THL Tube and Pipe Industries LLC/KHK Scaffolding and Formwork LLC (collectively, Universal).² The producers/exporters not selected for individual examination are Conares Metal Supply Limited, TSI Metal Industries L.L.C.,³ and K.D. Industries Inc.

¹ We collapsed Ajmal Steel Tubes & Pipes Ind. L.L.C. and Noble Steel Industries L.L.C. (Noble Steel) together in the final results of the 2016-2017 administrative review. See Circular Welded Carbon-Quality Steel Pipe from the United Arab Emirates: Final Results of Antidumping Duty Administrative Review; 2016-2017, 84 FR 44845 (August 27, 2019) (CWP from the UAE 2016-2017 Final Results). Because there is no information on the record of this administrative review that would lead us to revisit this determination, we continue to treat these companies as part of a single entity for the purposes of this administrative review. In the final results of the 2019-2020 administrative review, we found that Ajmal Steel Tubes & Pipes Ind., L.L.C.-Branch-1 is the successor-in-interest to Noble Steel. See Circular Welded Carbon-Quality Steel Pipe from the United Arab Emirates: Final Results of Antidumping Duty Administrative Review; 2019-2020, 87 FR 41111 (July 11, 2022) (CWP from the UAE 2019-2020 Final Results).

² Commerce previously determined that Universal is a single entity consisting of the following three producers/exporters of subject merchandise: Universal Tube and Plastic Industries, Ltd.; KHK Scaffolding and Formwork LLC; and Universal Tube and Pipe Industries LLC (UTP). See Circular Welded Carbon-Quality Steel Pipe from the United Arab Emirates: Affirmative Preliminary Determination of Sales at Less Than Fair Value and Postponement of Final Determination, 81 FR 36882 (June 8, 2016), and accompanying Preliminary Decision Memorandum (PDM), unchanged in Circular Welded Carbon-Quality Steel Pipe from the United Arab Emirates: Final Determination of Sales at Less Than Fair Value, 81 FR 75030 (October 28, 2016), and accompanying Issues and Decision Memorandum. Because there is no information on the record of this administrative review that would lead us to revisit this determination, we are continuing to treat these companies as part of a single entity for the purposes of this administrative review. Additionally, we previously determined that THL Tube and Pipe Industries LLC is the successor-in-interest to UTP. See CWP from the UAE 2016-2017 Final Results.

³ In the final results of the 2019-2020 administrative review, we found that TSI Metal Industries L.L.C. is the successor-in-interest to Tiger Steel Industries L.L.C. See CWP from the UAE 2019-2020 Final Results.

On December 28, 2022, Commerce published the Preliminary Results.⁴ A summary of the events that occurred since Commerce published the Preliminary Results, as well as a full discussion of the issues raised by interested parties for these final results, may be found in the Issues and Decision Memorandum.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Circular Welded Carbon-Quality Steel Pipe from the United Arab Emirates: Preliminary Results of Antidumping Duty Administrative Review; 2020-2021, 87 FR 79862 (December 28, 2022) (Preliminary Results), and accompanying PDM, corrected by the Federal Register in Circular Welded Carbon-Quality Steel Pipe from the United Arab Emirates: Preliminary Results of Antidumping Duty Administrative Review; 2020-2021, 88 FR 7404 (February 3, 2023).

⁵ See Memorandum, “Issues and Decision Memorandum for the Final Results of the 2020-2021 Administrative Review of the Antidumping Duty Order on Circular Welded Carbon-Quality Steel Pipe from the United Arab Emirates,” dated concurrently with, and hereby adopted by, this notice (Issues and Decision Memorandum).

Commerce conducted this administrative review in accordance with section 751 of the Tariff Act of 1930, as amended (the Act).

Scope of the Order ⁶

⁶ See Circular Welded Carbon-Quality Steel Pipe from the Sultanate of Oman, Pakistan, and the United Arab Emirates: Amended Final Affirmative Antidumping Duty Determination and Antidumping Duty Orders, 81 FR 91906 (December 19, 2016) (Order).

The merchandise subject to the Order is welded carbon-quality steel pipes and tube, of circular cross-section, with an outside diameter not more than nominal 16 inches (406.4 mm), regardless of wall thickness, surface finish, end finish, or industry specification, and generally known as standard pipe, fence pipe and tube, sprinkler pipe, or structural pipe (although subject product may also be referred to as mechanical tubing). The products subject to this Order are currently classifiable in Harmonized Tariff Schedule of the United States (HTSUS) statistical reporting numbers 7306.19.1010, 7306.19.1050, 7306.19.5110, 7306.19.5150, 7306.30.1000, 7306.30.5015, 7306.30.5020, 7306.30.5025, 7306.30.5032, 7306.30.5040, 7306.30.5055, 7306.30.5085, 7306.30.5090, 7306.50.1000, 7306.50.5030, 7306.50.5050, and 7306.50.5070. Although the HTSUS numbers are provided for convenience and for customs purposes, the written product description remains dispositive.⁷

⁷ For a complete description of the scope of the Order, see the Issues and Decision Memorandum.

Analysis of Comments Received

All issues raised by interested parties to this administrative review are addressed in the Issues and Decision Memorandum. For a list of issues raised by parties, see the appendix to this notice.

Changes Since the Preliminary Results

Based on a review of the record and comments received from interested parties regarding the Preliminary Results, we made certain changes to the preliminary weighted-average dumping margin calculations for Ajmal, Universal, and the non-examined companies.⁸

⁸ See the Issues and Decision Memorandum.

Rate for Non-Examined Companies

The Act and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally an amount equal to the weighted average of the estimated weighted-average dumping margins established for exporters and producers individually investigated, excluding rates that are zero, de minimis (i.e., less than 0.5 percent), or determined entirely on the basis of facts available.

For the final results, Commerce calculated weighted-average dumping margins for Ajmal and Universal that are not zero, de minimis, or based entirely on facts otherwise available. Accordingly, Commerce has continued to calculate the rate for companies not selected for individual examination using a weighted average of the weighted-average dumping margins calculated for Ajmal and Universal, weighted by each respondent's publicly-ranged total U.S. sales value.⁹

⁹ When Commerce's individual examination of respondents is limited to two respondents, Commerce normally calculates: (A) a weighted average of the weighted-average dumping margins calculated for the individually-examined respondents; (B) a simple average of the weighted-average dumping margins calculated for the individually-examined respondents; and (C) a weighted average of the weighted-average dumping margins calculated for the individually-examined respondents using each company's publicly-ranged U.S. sales quantities of subject merchandise. Commerce then compares then compares (B) and (C) to (A) and selects either the (B) or (C) rate based on the rate closest to (A) as the most appropriate rate for companies not selected for individual examination, as using the (A) rate would result in the disclosure of business proprietary information. See, e.g., Ball Bearings and Parts Thereof from France, Germany, Italy, Japan, and the United Kingdom: Final Results of Antidumping Duty Administrative Reviews, Final Results of Changed-Circumstances Review, and Revocation of an Order in Part, 75 FR 53661, 53663 (September 1, 2010). In this review, Commerce based the rate for companies not selected for individual examination on the publicly-ranged sales data of the mandatory respondents. For an analysis of the data, see Memorandum, “Calculation of the Non-Selected Companies Rate for the Final Results,” dated concurrently with this notice.

Final Results of Review

We calculated the following weighted-average dumping margins for the companies listed below for the period December 1, 2020, through November 30, 2021:

Exporter and/or producer | Weighted- average dumping margin (percent)
Ajmal Steel Tubes & Pipes Ind. L.L.C./Ajmal Steel Tubes & Pipes Ind. L.L.C.-Branch-1 | 5.06
Universal Tube and Plastic Industries, Ltd./THL Tube and Pipe Industries LLC/KHK Scaffolding and Formwork LLC | 2.63
Conares Metal Supply Limited | 3.63
TSI Metal Industries L.L.C | 3.63
K.D. Industries Inc | 3.63

Disclosure

We intend to disclose the calculations performed within five days of the date of publication of this notice to parties in this proceeding, in accordance with 19 CFR 351.224(b).

Assessment Rates

Pursuant to section 751(a)(2)(C) of the Act, and 19 CFR 351.212(b)(1), Commerce has determined, and U.S. Customs and Border Protection (CBP) shall assess, antidumping duties on all appropriate entries of subject merchandise in accordance with the final results of this review.

Pursuant to 19 CFR 351.212(b)(1), because Ajmal and Universal reported the entered value of their U.S. sales, we calculated importer-specific ad valorem duty assessment rates for antidumping duties based on the ratio of the total amount of dumping calculated for the examined sales to each importer to the total entered value of those sales. Where an importer-specific assessment rate is de minimis (i.e., less than 0.5 percent), the entries by that importer will be liquidated without regard to antidumping duties.

Commerce's “automatic assessment” will apply to entries of subject merchandise during the POR produced or exported by Ajmal or Universal for which the company did not know that the merchandise they sold to the intermediary (e.g., a reseller, trading company, or exporter) was destined for the United States. In such instances, we will instruct CBP to liquidate unreviewed entries at the all-others rate if there is no rate for the intermediate company(ies) involved in the transaction.¹⁰

¹⁰ For a full discussion of this practice, see Antidumping and Countervailing Duty Proceedings: Assessment of Antidumping Duties, 68 FR 23954 (May 6, 2003).

For the companies that were not selected for individual review, the assessment rate for antidumping duties will be equal to the weighted-average dumping margin determined in these final results.

We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for each company listed above will be that established in the final results of this review, except if the rate is less than 0.50 percent and, therefore, de minimis within the meaning of 19 CFR 351.106(c)(1), in which case the cash deposit rate will be zero; (2) for previously investigated companies not subject to this review, the cash deposit will continue to be the company-specific rate published for the most recently completed segment of this proceeding; (3) if the exporter is not a firm covered in this review, or a previous segment, but the producer is, then the cash deposit rate will be the rate established for the most recent segment for the producer of the merchandise; and (4) the cash deposit rate for all other producers or exporters will continue to be 5.95 percent, the all-others rate established in the LTFV investigation.¹¹

¹¹ See Circular Welded Carbon-Quality Steel Pipe from the Sultanate of Oman, Pakistan, and the United Arab Emirates: Amended Final Affirmative Antidumping Duty Determination and Antidumping Duty Orders, 81 FR 91906, 91908 (December 19, 2016).

These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to an administrative protective order (APO) of their responsibility concerning the disposition of proprietary information disclosed under APO in accordance with 19 CFR 351.305(a)(3), which continues to govern business proprietary information in this segment of the proceeding. Timely written notification of return or destruction of APO materials or conversion to judicial protective order is hereby requested. Failure to comply with the regulations and the terms of an APO is a sanctionable violation.

Notification to Interested Parties

We are issuing and publishing this notice in accordance with sections 751(a)(1) and 777(i) of the Act.

Dated: April 27, 2023.
Lisa W. Wang,
Assistant Secretary for Enforcement and Compliance.

Appendix

List of Topics Discussed in the Issues and Decision Memorandum

I. Summary

II. Background

III. Scope of the Order

IV. Changes From the Preliminary Results

V. Discussion of the Issues

Comment 1: Differential Pricing Analysis

Comment 2: Treatment of Section 232 Duties

Comment 3: Selection of the Correct Universes of Sales for Ajmal for the Period of Review (POR)

Comment 4: Calculation of Universal's Imputed Credit Expense for U.S. Sales

Comment 5: Application of Partial Adverse Facts Available (AFA) for Universal's Reported Freight Revenue on U.S. Sales

VI. Recommendation

[FR Doc. 2023-09422 Filed 5-3-23; 8:45 am]

BILLING CODE 3510-DS-P